DEPARTMENT OF ENERGY

Federal Energy Regulatory Commission

[Docket No. RP03-419-001]

Southern Star Central Gas Pipeline, Inc.; Notice of Compliance Filing

July 9, 2003.

Take notice that on July 3, 2003 Southern Star Central Gas Pipeline, Inc. (Southern Star) tendered for filing as part of its FERC Gas Tariff, Original Volume No. 1, Substitute First Revised Sheet No. 289 and Substitute Original Sheet No. 291, to become effective July 1, 2003.

Southern Star states that the tariff sheets are being filed in compliance with the Commission's Letter Order dated June 25, 2003. Southern Star states that the substitute tariff sheets are being filed to correct various references to the appropriate Recommendation R02002 or R02002-2 regarding Version 1.6 of the Wholesale Gas Quadrant (WGQ) Standards and Data Sets of the North American Energy Standards Board (NAESB).

Southern Star further states that copies of the tariff sheets are being mailed to Southern Star's jurisdictional customers and interested state commissions, as well as those parties listed on the applicable service list.

Any person desiring to protest said filing should file a protest with the Federal Energy Regulatory Commission, 888 First Street, NE., Washington, DC 20426, in accordance with ¶ 385.211 of the Commission's Rules and Regulations. All such protests must be filed in accordance with ¶ 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: July 15, 2003.

Magalie R. Salas,
Secretary.

[FR Doc. 03-17887 Filed 7-15-03; 8:45 am]

BILLING CODE 6717-01-P